DEPARTMENT OF HEALTH AND HUMAN SERVICES

Centers for Disease Control and Prevention

Advisory Committee to the Director, Centers for Disease Control and Prevention (ACD, CDC)

In accordance with section 10(a)(2) of the Federal Advisory Committee Act (Pub. L. 92-463), the Centers for Disease Control and Prevention (CDC) announces the following Meeting of the aforementioned committee:

Time and Date: 4:30 p.m.-6 p.m., September 1, 2009.

Place: The teleconference call will originate at the Centers for Disease Control and Prevention in Atlanta, Georgia. Please see Supplementary Information for details on accessing the teleconference.

Status: Open to the public, teleconference access limited only by availability of telephone ports.

Purpose: The committee will provide advice to the CDC Director on strategic and other broad issues facing CDC.

Matters To Be Discussed: The committee will discuss and decide on recommendations from its Ethics Subcommittee, National Biosurveillance Advisory Subcommittee, and the Health Disparities Subcommittee. The Ethics Subcommittee will make recommendations on using travel restrictions for individuals with infectious illnesses; and discuss a draft charge that clearly articulates the ethical foundation for focusing on health protection activities and examining the social determinants of health. The National Biosurveillance Advisory Subcommittee will present their final report on biosurveillance recommendations. The Health Disparities Subcommittee will present their mission. The ACD, CDC will also receive an update on H1N1 and the plans for the upcoming flu season.

Agenda items are subject to change as priorities dictate.

Supplementary Information: This conference call is scheduled to begin at 4:30 p.m. To participate in the teleconference, please dial 1-800-593-9961 and enter conference code 3699611. You will then be automatically connected to the call.

Contact Person for More Information: Anne Haddix, M.D., Designated Federal Officer, Advisory Committee to the Director, CDC, 1600 Clifton Road, NE., M/S D-14, Atlanta, Georgia 30333. Telephone 404-639-0663.

The Director, Management Analysis and Services office has been delegated the authority to sign Federal Register notices pertaining to announcements of meetings and other committee management activities for both the Centers for Disease Control and Prevention and the Agency for Toxic Substances and Disease Registry.

Dated: August 10, 2009.
Elaine L. Baker,
Director, Management Analysis and Services Office, Centers for Disease Control and Prevention (CDC).

[FR Doc. E9-19698 Filed 8-14-09; 8:45 am]

BILLING CODE 4163-18-P